DEPARTMENT OF JUSTICE

Antitrust Division

Notice Pursuant to the National Cooperative Research and Production Act of 1993—Information Warfare Research Project Consortium

Notice is hereby given that, on October 4, 2023, pursuant to section 6(a) of the National Cooperative Research and Production Act of 1993, 15 U.S.C. 4301 et seq. (“the Act”), Information Warfare Research Project Consortium (“IWRP”) has filed written notifications simultaneously with the Attorney General and the Federal Trade Commission disclosing changes in its membership. The notifications were filed for the purpose of extending the Act's provisions limiting the recovery of antitrust plaintiffs to actual damages under specified circumstances. Specifically, 3ONE1, Inc., Dover, DE; 901 D LLC, Airmont, NY; Ad Hoc Research Associates LLC, Havre de Grace, MD; Akima Systems Engineering LLC, Herndon, VA; Anokiwave, Inc., Billerica MA; Blacksky Geospatial Solutions, Inc., Herndon, VA; Braetr FP LLC, Hanahan, SC; C3.ai, Inc., Redwood City, CA; Chameleon Consulting Group LLC, Herndon, VA; Creative Global Consulting LLC, Laurel, MD; Daniel H. Wagner Associates, Inc., Exton, PA; Dynamic Systems, Inc., El Segundo, CA; GaN Corp., Huntsville, AL; Graf Research Corp., Blacksburg, VA; Hunter Strategy LLC, Pompano Beach, FL; In-Depth Engineering Corp., Fairfax, VA; Kairos, Inc., California, MD; KCG Engineering Group, Inc., Virginia Beach, VA; Liteye Systems, Inc., Centennial, CO; Logistic Specialties, Inc., Layton, UT; Lone Star Aerospace, Inc., Addison, TX; Nighthawk Cyber LLC, Orlando, FL; Oakman Aerospace LLC, Littleton, CO; Objective Interface Systems, Inc., Herndon, VA; Parallax Advanced Research Corp., Beavercreek, OH; REDLattice, Inc., Chantilly, VA; Saab, Inc., East Syracuse, NY; Shadow-Soft LLC, Sandy Springs, GA; Snowflake, Inc., Bozeman, MT; Southwest Research Institute, San Antonio, TX; Stratascor dba StratasCorp Technologies LLC, Virginia Beach, VA; Swain Online Inc dba Swain Techs, Newtown, PA; Systems Innovation Engineering LLC, Mullica Hill, NJ; The Kenific Group, Inc., Leesburg, VA; Three Wire Systems LLC, Mclean, VA; Trillion Technology Solutions, Inc., Reston, VA; University Technical Services, Inc., Greenbelt, MD; Vantiq, Inc., Walnut Creek, CA; VARIABLECONSTANT LLC, Arlington, VA; Vergence LLC, Escondido, CA; VetAble Technologies LLC, Brandon, FL; Vision Point Systems, Inc., Fairfax, VA; and Xage Security, Inc., Palo Alto, CA, have been added as parties to this venture.

Also, ARKS Enterprises, Inc., Virginia Beach, VA; Cummings Aerospace, Inc., Huntsville, AL; DeVilliers Technology Solutions, Stafford, VA; GE Flight Efficiency Services, Inc., Auston, TX; HII Technical Solutions Corp., Virginia Beach, VA; Omni Federal, Gainesville, VA; Omnispace LLC, Tysons, VA; Technology Advancement Group, Inc., Dulles, VA; and Unified Experience LLC, Mount Pleasant, SC, have withdrawn as parties to this venture.

No other changes have been made in either the membership or planned activity of the group research project. Membership in this group research project remains open, and IWRP intends to file additional written notifications disclosing all changes in membership.

On October 15, 2018, IWRP filed its original notification pursuant to section 6(a) of the Act. The Department of Justice published a notice in the Federal Register pursuant to section 6(b) of the Act on October 23, 2018 (83 FR 53499).

The last notification was filed with the Department on July 7, 2023. A notice was published in the Federal Register pursuant to section 6(b) of the Act on September 26, 2023 (88 FR 66057).

Suzanne Morris,
Deputy Director Civil Enforcement Operations, Antitrust Division.

[FR Doc. 2023-27568 Filed 12-14-23; 8:45 am]

BILLING CODE P